DEPARTMENT OF AGRICULTURE

Forest Service

Correction; Information Collection; FS-1800-3, Youth Conservation Corps Employment

AGENCY: Forest Service, USDA.

ACTION: Notice.

SUMMARY: This notice corrects the estimate of burden for the second part of the request for reinstatement of the information collection, Youth Conservation Corps Employment. FS-1800-3 Youth Conservation Corps (YCC) Medical History, was the second part of this information collection, which was published in the Federal Register on February 10, 2000 (65 FR 6579), with a request for comment deadline of April 10, 2000. After further discussion with the Department of Interior, National Park Service, and Fish and Wildlife Service, the Forest Service determined that the number of respondents who will have to complete the Medical History form will be less than the number stated in the published notice. Only youths who will be hired will be required to complete FS-1800-3. Youths who apply for a position with the Youth Conservation Corps, but who will not be hired will not have to complete this Medical History form.

FOR FURTHER INFORMATION CONTACT: Ransom Hughes, Youth Conservation Corps, Senior, Youth and Volunteer Programs, at (703) 605-4854.

Description of Information Collection

Title: FS-1800-3 Youth Conservation Corps (YCC) Medical History.

OMB Number: 0596-0084.

Expiration Date of Approval: October 31, 1997.

Estimate of Annual Burden:

14 minutes.

Type of Respondents: Youth 15 to 18 years of age.

Estimated Annual Number of Respondents: 2,000 (corrected from 18,000).

Estimated Annual Number of Responses per Respondent: 1.

Estimated Total Annual Burden on Respondents: 140 hours (corrected from 4,200 hours).

Dated: April 5, 2000.
Clyde Thompson,
Deputy Chief for Business Operations.

[FR Doc. 00-9209 Filed 4-12-00; 8:45 am]

BILLING CODE 3410-11-P